DEPARTMENT OF DEFENSE

Department of the Army

Board of Visitors, United States Military Academy (USMA)

AGENCY: Department of the Army, DOD.

ACTION: Notice; time change.

SUMMARY: The committee meeting scheduled for September 16, 2005, at 1 p.m. published in the Federal Register on Friday, August 12, 2005 (70 FR 47183) has a time change. The meeting will now start at 4 p.m. There will also be a closed session prior to the annual meeting from 3 p.m. to 3:45 p.m.

FOR FURTHER INFORMATION CONTACT: Lieutenant Colonel Shaun T. Wurzbach, United States Military Academy, West Point, NY 10966-5000, (845) 93804200.

SUPPLEMENTARY INFORMATION: None.

Brenda S. Bowen,
Army Federal Register Liaison Officer.

[FR Doc. 05-18072 Filed 9-12-05; 8:45 am]

BILLING CODE 3710-08-M